DEPARTMENT OF AGRICULTURE

Forest Service

Nez Perce-Clearwater National Forests; Idaho; End of the World Project

AGENCY: Forest Service, Agriculture (USDA).

ACTION: Notice of intent to prepare an environmental impact statement.

SUMMARY: The Forest Service (“Forest Service”), United States Department of Agriculture, is giving notice of its intent to prepare an environmental impact statement (EIS) for the End of the World Project on the Salmon River Ranger District of the Nez Perce-Clearwater National Forests in Idaho. The Forest received an unpublished order in Friends of the Clearwater v. Cheryl F. Probert. The court ordered the environmental assessment (EA), decision notice (DN), and finding of no significant impact (FONSI) for the End of the World project to be remanded to the United States Forest Service for further evaluation under the National Forest Management Act (NFMA) and National Environmental Policy Act (NEPA). The EIS will further analyze old growth in the project area and evaluate the cumulative impacts with the neighboring Hungry Ridge Project to ensure old growth was retained per the 1987 Nez Perce National Forest land management plan requirements.

DATES: The Forest Service is not conducting a scoping period because we are using the information we collected during the development of the previous EA. The draft EIS will be published for public comment as required by 40 CFR 1503.1. Notice of the draft EIS availability will be announced for public review and comment in the Federal Register and on the Nez Perce-Clearwater National Forests' project website, as well as other local media. The comment period for the draft EIS will be 45 days from the date the Environmental Protection Agency publishes the notice of availability in the Federal Register. The Forest Service anticipates that the draft EIS will be available for public review in spring/summer 2024.

ADDRESSES: Nez Perce Clearwater National Forests, 1008 Highway 64, Kamiah, Idaho 83536.

FOR FURTHER INFORMATION CONTACT: Jeff Shinn, Salmon District Ranger, jeffrey.shinn@usda.gov or 208-839-2103. Individuals who use telecommunications devices for the hearing impaired may call 711 to reach the Telecommunications Relay Service, 24 hours a day, every day of the year, including holidays.

SUPPLEMENTARY INFORMATION: The End of the World project area is located approximately six (6) miles south of Grangeville, Idaho. The name of this project is a tribute to local community members who often gather at the previous Fish Creek Lookout site (located prominently within the project area) which they affectionately call “The End of the World” because of the extensive viewscape. The EIS will expand the analysis from the End of the World Final EA (January 2021) by providing an updated analysis of the environmental effects related to old growth and analysis of cumulative effects of the Hungry Ridge and End of the World projects. The End of the World Final EA evaluated the potential effects of three alternatives, including No Action and two action alternatives. The final Decision Notice was signed January 25, 2021. The EIS will provide updated information about the project's ability to meet Forest Plan standards for old growth in the project area and the cumulative effects between the End of the World and Hungry Ridge projects. Other resources will be addressed by following 40 CFR 1502.2(b).

The Forest Supervisor of the Nez Perce-Clearwater National Forests will issue a Record of Decision (ROD) after evaluating the EIS and public comments.

Purpose and Need for Action

The End of the World Project area is designated as part of an insect and disease treatment program in accordance with Title VI, Section 602, Healthy Forest Restoration Act (HFRA), as amended by Section 8204 of the Agriculture Act (Farm Bill) of 2014. Based on observed existing conditions, as well as other supporting information (e.g., annual insect and disease aerial detection surveys, national insect and disease risk maps, community wildfire protection plan (CWPP), and input from local community members), there is a need to:

• Change the nature and arrangement of fuels to reduce wildfire risk to the local communities and surrounding Federal lands;

• Reduce the risk or extent of, or increase resilience to, insect or disease infestation;

• Restore forest vegetation, dry meadows, and grasslands to a healthy condition; and

• Improve water quality and aquatic habitats.

This project is in the heart of the Forests' Wildland Fire Crisis Emergency Landscape. The project lies entirely within the Wildland Urban Interface (WUI) for the Grangeville area as defined by the CWPP of Idaho County. It was originally authorized as part of an insect and disease treatment program in accordance with title VI, section 602, HFRA, as amended by section 8204 of the Agriculture Act (Farm Bill) of 2014. This project meets Executive Order (E.O.) 14072 because it was created using science-based modelling that indicated that this area is in high need for treatment through sustainable forest and land management activities. The project conserves America's mature and old-growth forests through authorization under title VI, section 602, HFRA as well as application of the 1987 Nez Perce Forest Plan Standards. Proposed activities will improve the resilience of our lands, waters, wildlife, and communities in the face of increasing disturbances and chronic stress arising from climate impacts.

Proposed Action

The goal of this project is to treat at a landscape scale to increase the resilience of the forest to insects, disease, fire, and future climate impacts. The project is also designed to improve water quality, aquatic habitats, and resources important to the Nez Perce Tribe (project area is fully within the ceded territory). Finally, the project is adjacent to the community of Grangeville, Idaho, and actions are designed to reduce the threat of catastrophic wildfires to both private residences in and adjacent to the Forest and to the community of Grangeville.

Pre-commercial thinning, intermediate harvest, regeneration harvest, and aquatic improvements are proposed to change the nature and arrangement of fuels and reduce wildfire risk. The project proposes to remove hazard trees in campgrounds and dispersed camping areas, create a fuel break on Forest Service Road 221, conduct prescribed landscape burning, treat invasive plant species, improve range conditions and restore dry meadows, conduct trail restoration or reconstruction, decommission roads, replace culverts, improve cross drains, and complete stream crossing hardening. There will be no regeneration harvest in old growth. Project activities will maintain or promote old growth characteristics consistent with the regional definition of old growth.

The EIS will provide updated information about the project's ability to meet the 1987 Forest Plan standards for old growth in the project area and the cumulative effects on old growth between the End of the World and Hungry Ridge projects as directed by the court.

Preliminary Alternatives

The alternatives from the EA will be incorporated into the EIS. The End of the World EA (January 2021) evaluated the potential effects of three alternatives, including No Action and two action alternatives. Both the Proposed Action and Alternative B meet the purpose and need of the project. Alternative B was created in direct response to collaboration and public comments that requested alternative treatments near private properties, less harvest, fewer temporary roads, and less potential sediment production. The No Action alternative provided the baseline for the comparison of the environmental effects of the action alternatives to the existing condition. The No Action Alternative would continue to elevate the risk of uncharacteristic wildfire and would not address fuel accumulations in the WUI, nor would it respond to the priority landscapes identified by the Governor of Idaho. It would not further implementation of the National Wildfire Crisis or National Cohesive Strategies.

Expected Impacts

The Forest Service will evaluate potential impacts to old growth in the project area and cumulative effects on old growth by the End of the World and Hungry Ridge projects.

Responsible Official

Cheryl F. Probert, Nez Perce—Clearwater Forest Supervisor, Nez Perce-Clearwater National Forests Supervisor's Office, 1008 Highway 64, Kamiah, Idaho 83536.

Comments and the Objection Process

A legal notice was published in the Lewiston Tribune on February 16, 2018. This notice started a 30-day scoping/comment period. In accordance with 40 CFR 1502.9(d)(3), there will be no scoping conducted for this EIS. The scope of the End of the World final EA established the scope for this EIS. The Forest Service will be seeking comments on the draft EIS. The Forest Supervisor will be requesting Emergency Action Determination authority under the Bipartisan Infrastructure Law, section 40807, since the project is within two of the 250 high-risk western firesheds. If the Emergency Action Determination authority is approved, the End of the World project would not be subject to the pre-decisional objection review process pursuant to 36 CFR 218 subparts A and B.

The Forest Service will be soliciting future participation via the GovDelivery email notification system, rather than postal mail. Details about the upcoming project will be sent through GovDelivery. To sign up for GovDelivery and take advantage of electronic notifications, visit the End of the World Project web page at: https://www.fs.usda.gov/project/?project=52541. On the right side of the screen, under “Get Connected,” select “Subscribe to Email Updates.” When you click on that item, you will be prompted to provide your email address and select a password in the GovDelivery program. Once you have logged in, you will be able to manage your account by subscribing to projects by National Forest, Ranger District, project type, or project purpose. Select the Nez Perce-Clearwater National Forests, Salmon River Ranger District, and/or End of the World Project to receive any updates on the project. Once you are subscribed, you will continue to receive all project information and updates via email. Updates will not be sent via postal mail.

Nature of Decision To Be Made

The Responsible Official will review the information and analysis in the EIS to determine whether direct, indirect, and cumulative effects on old growth in the End of the World project area meet the requirements of appendix N of the 1987 Nez Perce National Forest Land and Resource Management Plan (Plan); if there are cumulative impacts to old growth by the End of the World Restoration Project and the Hungry Ridge Restoration Project; and which alternative best meets the purpose and need of the project and complies with the Plan.

Dated: April 22, 2024.
Troy Heithecker,
Associate Deputy Chief, National Forest System.

[FR Doc. 2024-08954 Filed 4-25-24; 8:45 am]

BILLING CODE 3411-15-P